NATIONAL AERONAUTICS AND SPACE ADMINISTRATION

[Notice (05-065)]

National Environmental Policy Act; Development of Nuclear Reactors for Space Electric Power Applications

AGENCY: National Aeronautics and Space Administration (NASA).

ACTION: Notice of intent to prepare a Programmatic Environmental Impact Statement (PEIS) and to conduct scoping for the research and development activities associated with nuclear fission reactors to produce electrical power for potential use in space on future NASA exploration missions.

SUMMARY: Pursuant to the National Environmental Policy Act of 1969, as amended (NEPA) (42 U.S.C. 4321 et seq.), the Council on Environmental Quality Regulations for Implementing the Procedural Provisions of NEPA (40 CFR parts 1500-1508), and NASA's policy and procedures (14 CFR subpart 1216.3), NASA, in cooperation with the U.S. Department of Energy (DOE), intends to prepare a PEIS for the research and development activities associated with space nuclear fission reactors for electric power production in potential future NASA missions. The design and development effort would take advantage of relevant knowledge gained from earlier space nuclear reactor development efforts. NASA will hold public scoping meetings as part of the scoping process associated with the PEIS. If the proposed technology proves to be feasible for space applications, the first mission could be launched from the Cape Canaveral, Florida area. A separate mission-specific EIS would be prepared prior to launch of a space nuclear reactor powered mission.

DATES: Interested parties are invited to submit comments on environmental issues and concerns in writing on or before May 31, 2005, to assure full consideration during the scoping process.

ADDRESSES: Hardcopy comments should be mailed to NASA Prometheus PEIS, NASA Headquarters, Exploration Systems Mission Directorate, Mail Suite 2V-39, 300 E Street, SW., Washington, DC 20546-0001. Comments may be submitted by e-mail to: nasa-prometheus-peis@nasa.gov, or via the Internet at: http://exploration.nasa.gov/nasa-prometheus-peis.html.

FOR FURTHER INFORMATION CONTACT: NASA Prometheus PEIS, NASA Headquarters, Exploration Systems Mission Directorate, Mail Suite 2V-39, Washington, DC 20546-0001, by telephone at 866-833-2061, by electronic mail at nasa-prometheus-PEIS@nasa.gov, or on the Internet at: http://exploration.nasa.gov/nasa-prometheus-peis.html.

SUPPLEMENTARY INFORMATION: NASA is entering the next phase in its scientific exploration of the solar system that will increase the quantity, quality, and types of information collected on scientific exploration missions throughout the solar system including missions to the Moon, Mars and beyond. However, this phase of exploration missions cannot be accomplished with the current propulsion, energy production and storage technologies presently available. Space nuclear fission reactor technology may offer the potential to provide sufficient energy to enable long-duration spacecraft propulsion capabilities as well as provide abundant, continuous electrical power for spacecraft operations, high capability science instruments, and high data-rate communication systems. While a space nuclear reactor would possess a larger amount of stored energy, providing greater exploration capability than was previously available to spacecraft, the physical size and power output would be relatively small; about the size of a kitchen refrigerator and able to power a 400-pupil elementary school. NASA's development initiative responds to concerns raised by the space science community regarding limitations of current and reasonably foreseeable technologies for Solar System exploration.

Space nuclear fission reactor systems could enable exploration missions requiring substantially greater amounts of electrical power (on the order of many kilowatts of electricity), where currently available and reasonably foreseeable energy systems are likely to be inadequate. The ability to generate high levels of sustained electrical power regardless of location in the solar system would permit a new class of missions designed for longevity, flexibility, and comprehensive scientific exploration. This new technology could enable multi-destination, multi-year exploration missions capable of entering into desired orbits around a body, conducting observations, and then departing to a new destination. Increased power and energy on-board the spacecraft would also permit: (1) Launching spacecraft with larger science payloads; (2) use of advanced high capability scientific instruments; and (3) transmission of large amounts of data back to Earth. The PEIS will articulate the purpose and need for space nuclear fission reactors for production of electric power and their relation to NASA's overall exploration strategy. The PEIS will also evaluate known and reasonably foreseeable power technologies to determine whether they are reasonable alternatives to meet NASA's purpose and need. NASA has commissioned early feasibility and conceptual studies for mission capabilities that could be enabled by space nuclear fission reactors for the production of electric power. The PEIS will include a high-level discussion of the projected reactor technology development activities at NASA and DOE through final design, testing, and fabrication of a system for use in space. Some early feasibility and conceptual studies identified a potential need for new facilities such as a land-based prototype reactor to test the reactor design before actual use, and launch site support facilities for final assembly and testing of the spacecraft before launch. Substantial modifications to existing facilities or their operations, or building new facilities for reactor development or launch site support capabilities, would not be done before considering the environmental impacts including preparation of the appropriate site-specific NEPA documentation. Mission-specific uses of a fission reactor would also be subject to separate NEPA documentation. Alternatives to be considered in this PEIS may include but would not necessarily be limited to:

—Alternative power generation technologies, such as advanced batteries and solar power.

—The No Action Alternative, where NASA would not pursue development of a spacecraft nuclear fission reactor.

Written public input and comments on environmental impacts and concerns associated with the development of a spacecraft nuclear fission reactor are requested. NASA is interested in public input on which environmental issues should be focused upon in the PEIS and what alternative power generation technologies should be considered. NASA also plans on holding two public scoping meetings to provide information on the Prometheus PEIS and to solicit public comments. These meetings are:

—April 19, 2005, from 1 p.m.-4 p.m. and 6 p.m.-9 p.m. at the Florida Solar Energy Center; H. George Carrison Auditorium; 1679 Clearlake Road; Cocoa, Florida 32922;

—April 26, 2005, from 1 p.m.-4 p.m. at the Hyatt Regency Washington on Capitol Hill; 400 New Jersey Avenue, NW., Washington DC 20001.

Persons interested in attending these meetings may request meeting information via electronic mail at nasa-prometheus-peis@nasa.gov, by telephone at 866-833-2061, or by visiting the Prometheus PEIS Web site at: http://exploration.nasa.gov/nasa-prometheus-peis.html.

Jeffrey E. Sutton,
Assistant Administrator for Infrastructure and Administration.

[FR Doc. 05-6317 Filed 3-29-05; 8:45 am]

BILLING CODE 7510-13-P